DEPARTMENT OF JUSTICE

[OMB Number 1105-NEW]

Agency Information Collection Activities, Proposed eCollection eComments Requested Extension Without Change, of a Previously Approved Collection, Office of the Victims' Rights Ombudsman Crime Victims Rights Act Complaint Form

AGENCY: Department of Justice, Executive Office for United States Attorneys.

ACTION: 30-Day notice.

SUMMARY: The Department of Justice (DOJ), Executive Office for United States Attorneys, Office of the Victims' Rights Ombudsman, will be submitting the following information collection request to the Office of Management and Budget (OMB) for review and approval in accordance with the Paperwork Reduction Act of 1995.

DATES: Comments are encouraged and will be accepted for 30 days until March 7, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

1. Type of Information Collection: New information collection request.

2. The Title of the Form/Collection: Complaint Form.

3. The agency form number, if any, and the applicable component of the Department sponsoring the collection: An agency form number is pending. The applicable component within the Department of Justice is the Executive Office for United States Attorneys, Office of the Victims' Rights Ombudsman.

4. Affected public who will be asked or required to respond, as well as a brief abstract: General public.

Information is used to receive and investigate complaints filed by federal crime victims against Department employees who violated or failed to provide the rights established under the Crime Victims Rights Act of 2004, 18 U.S.C. 3771. Respondents are individuals.

5. An estimate of the total number of respondents and the amount of time estimated for an average respondent to respond: It is estimated that 100 respondents will complete each form within approximately 45 minutes.

6. An estimate of the total public burden (in hours) associated with the collection: There are an estimated 75 total annual burden hours associated with this collection.

If additional information is required contact: Melody Braswell, Department Clearance Officer, United States Department of Justice, Justice Management Division, Policy and Planning Staff, Two Constitution Square, 145 N Street NE, 3E.405A, Washington, DC 20530.

Dated: February 1, 2022.
Melody Braswell,
Department Clearance Officer for PRA, U.S. Department of Justice.

[FR Doc. 2022-02415 Filed 2-3-22; 8:45 am]

BILLING CODE 4410-07-P